FEDERAL COMMUNICATIONS COMMISSION

47 CFR Part 73

[DA 06-339; MB Docket No. 04-274; RM-11016]

Radio Broadcasting Service; Port Isabel, TX

AGENCY: Federal Communications Commission.

ACTION: Final rule.

SUMMARY: The Audio Division, at the request of Dana J. Puopolo allots Channel 288A at Port Isabel, Texas, as the community's second local service. See 69 FR 46474, published August 3, 2004. Channel 288A can be allotted to Port Isabel in compliance with the Commission's minimum distance separation requirements at reference coordinates 25-59-25 North Latitude and 97-09-59 West Longitude, provided there is a site restriction of 10.0 kilometers (6.3) miles southeast of the community. Mexican concurrence has been obtained. A filing window for Channel 288A at Port Isabel, Texas will not be opened at this time. Instead, the issue of opening a filing window for this channel will be addressed by the Commission in a subsequent order.

DATES: Effective April 3, 2006.

ADDRESSES: Federal Communications Commission, 445 Twelfth Street, SW., Washington, DC 20554.

FOR FURTHER INFORMATION CONTACT: Helen McLean, Media Bureau, (202) 418-2738.

SUPPLEMENTARY INFORMATION: This is a synopsis of the Commission's Report and Order, MB Docket No. 04-274, adopted February 15, 2006, and released February 17, 2006. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

The Audio Division also amends the FM Table to reflect that Station KNVO-FM was granted a license (BLH-20011226AAP) for a one-step application (BPH-19990304IE) to upgrade from Channel 266A to Channel 266C2 at Port Isabel, Texas. This action constitutes an editorial change in the FM Table of Allotments. Therefore, we find for good cause that a public notice and comment proceeding is unnecessary. See 5 U.S.C. 553(b)(A) and (B).

List of Subjects in 47 CFR Part 73

Radio, Radio broadcasting.

Part 73 of Title 47 of the Code of Federal Regulations is amended as follows:

PART 73—RADIO BROADCAST SERVICES

1. The authority citation for part 73 continues to read as follows:

Authority: 47 U.S.C. 154, 303, 334, 336.

§ 73.202 [Amended]

2. Section 73.202(b), the Table of FM Allotments under Texas, is amended by removing Channel 266A, and by adding Channel 266C2 and Channel 288A at Port Isabel.

Federal Communications Commission.
John A. Karousos,
Assistant Chief, Audio Division, Media Bureau.

[FR Doc. 06-2415 Filed 3-14-06; 8:45 am]

BILLING CODE 6712-01-P